DEPARTMENT OF COMMERCE

International Trade Administration

A-533-809

Certain Forged Stainless Steel Flanges from India; Preliminary Intent to Rescind New Shipper Review

AGENCY: Import Administration, International Trade Administration, Department of Commerce.

SUMMARY: The Department of Commerce (the Department) is conducting a new shipper review of the antidumping duty order on certain forged stainless steel flanges (stainless steel flanges) from India manufactured by Hotmetal Forge (India) Pvt., Ltd. (Hotmetal). The period of review (POR) is February 1, 2007, through July 31, 2007. We preliminarily determine that Hotmetal had no bona fide U.S. sales during the period of review (POR), and therefore intend to rescind the review.

We invite interested parties to comment on this preliminary intent to rescind. Parties who submit argument in these proceedings are requested to submit with the argument: (1) a statement of the issues; and (2) a brief summary of the argument.

EFFECTIVE DATE: June 6, 2008.

FOR FURTHER INFORMATION CONTACT: Fred Baker or Robert James, AD/CVD Operations, Office 7, Import Administration, International Trade Administration, U.S. Department of Commerce, 14th Street and Constitution Avenue, NW, Washington, DC 20230; telephone: (202) 482-2924 or (202) 482-0649, respectively.

SUPPLEMENTARY INFORMATION:

Background

On February 9, 1994, the Department published the antidumping duty order on stainless steel flanges from India. See Amended Final Determination and Antidumping Duty Order; Certain Forged Stainless Steel Flanges from India, 59 FR 5994 (February 9, 1994) (Amended Final Determination). On August 31, 2007, we received a request for a new shipper review from Hotmetal for the period February 1, 2007 through July 31, 2007. On October 4, 2007, we initiated the new shipper review. See Forged Stainless Steel Flanges from India: Notice of Initiation of Antidumping Duty New Shipper Review, 72 FR 56723 (October 4, 2007).¹

¹ Based on the spelling Hotmetal’s request for new shipper review, we spelled the respondent’s name “Hot Metal Forge (India) Pvt. Ltd.” in the initiation notice. However, subsequent submissions indicate “Hotmetal” is properly one word.

On October 4, 2007, the Department issued its questionnaire to Hotmetal. Hotmetal submitted its section A response on November 2, 2007, and its section B and C responses on November 16, 2007.

Scope of the order

The products covered by this order are certain forged stainless steel flanges, both finished and not finished, generally manufactured to specification ASTM A-182, and made in alloys such as 304, 304L, 316, and 316L. The scope includes five general types of flanges. They are weld-neck, used for butt-weld line connection; threaded, used for threaded line connections; slip-on and lap joint, used with stub-ends/butt-weld line connections; socket weld, used to fit pipe into a machined recession; and blind, used to seal off a line. The sizes of the flanges within the scope range generally from one to six inches; however, all sizes of the above-described merchandise are included in the scope. Specifically excluded from the scope of this order are cast stainless steel flanges. Cast stainless steel flanges generally are manufactured to specification ASTM A-351. The flanges subject to this order are currently classifiable under subheadings 7307.21.1000 and 7307.21.5000 of the Harmonized Tariff Schedule (HTS). Although the HTS subheading is provided for convenience and customs purposes, the written description of the merchandise under review is dispositive of whether or not the merchandise is covered by the scope of the order.

Intent to Rescind

As indicated above, we have preliminarily determined that Hotmetal’s sales to the United States during the POR were not bona fide sales. We based our determination on the following factors: (1) the U.S. price and expenses associated with the sale were unusually high; (2) the sale involved a method of shipping not standard for the industry; (3) the shipment did not enter U.S. customs territory as a dumping entry; and (4) there were unusual circumstances surrounding the resale of the subject merchandise by Hotmetal’s U.S. customer. For further information, see the Memorandum to the File, “Bona Fide Nature of the Sale in the New Shipper Review of Hotmetal Forge (India) Pvt., Ltd.,” dated May 29, 2008, for a complete explanation of our analysis. Based on these factors, we preliminarily intend to rescind this new shipper review.

Public Comment

Interested parties are invited to comment on this preliminary intent to rescind. Pursuant to 19 CFR 351.309( c)(1)(ii), interested parties may submit case briefs no later than 30 days after the date of publication of this notice. Pursuant to 19 CFR 351.309(d), rebuttal briefs, limited to issues raised in the case briefs and comments, may be filed no later than 5 days after the time limit for filing the case briefs. Parties who submit argument in these proceedings are requested to submit with the argument: (1) a statement of the issue; (2) a brief summary of the argument; and (3) a table of authorities. Further, the Department requests parties submitting written comments to provide the Department with an additional copy of the public version of any such comments on diskette.

Assessment Rates

At the completion of this new shipper review, if a final rescission notice is published, a cash deposit rate of 162.14 percent ad valorem shall continue to be collected for any entries produced by Hotmetal. Should the Department reach a final result other than a rescission, we will calculate an appropriate antidumping duty rate for both assessment and cash deposit purposes. The Department intends to issue assessment instructions to CBP 15 days after the date of publication of the final rescission or final results of review.

The Department clarified its “automatic assessment” regulation on May 6, 2003. See Notice of Policy Concerning Assessment of Antidumping Duties, 68 FR 23954 (May 6, 2003) (Assessment Policy Notice). This clarification will apply to entries of subject merchandise during the POR produced by Hotmetal for which Hotmetal did not know that the merchandise it sold to an intermediary (e.g., a reseller, trading company, or exporter) was destined for the United States. In such instances, we will instruct CBP to liquidate unreviewed entries at the 162.14 percent all-others rate established in the original less than fair value (LTFV) investigation if there is no rate for the intermediary involved in the transaction. See Assessment Policy Notice for a full discussion of this clarification.

Notification to Interested Parties

This notice also serves as a preliminary reminder to importers of their responsibility under 19 CFR 351.402(f) to file a certificate regarding the reimbursement of antidumping duties prior to liquidation of the relevant entries during this review period. Failure to comply with this requirement could result in the Secretary’s presumption that reimbursement of antidumping duties occurred and the subsequent assessment of double antidumping duties.

We are issuing and publishing this notice in accordance with sections 751(a)(1) and 777(i)(1) of the Tariff Act and 19 CFR 351.221(b)(4).

Dated: May 29, 2008.
Stephen J. Claeys,
Deputy Assistant Secretary for Import Administration.

[FR Doc. E8-12751 Filed 6-5-08; 8:45 am]

BILLING CODE 3510-DR-S